FEDERAL COMMUNICATIONS COMMISSION

[CC Docket No. 96-45; DA 02-2220]

Revised Forms 486 and 479 and Accompanying Instructions for Schools and Libraries Universal Service Support Mechanism

AGENCY: Federal Communications Commission.

ACTION: Notice.

SUMMARY: In this document the Wireline Competition Bureau announces the release of revised FCC Forms 486 and 479 and the associated instructions for the schools and libraries universal service support mechanism. These revised forms adopt changes in the certifications that libraries must make to indicate compliance with the Children's Internet Protection Act.

DATES: September 11, 2002.

FOR FURTHER INFORMATION CONTACT: Narda Jones, Attorney, Telecommunications Access Policy Division, Wireline Competition Bureau, (202) 418-7400, TTY: (202) 418-0484.

SUPPLEMENTARY INFORMATION: The Wireline Competition Bureau of the Federal Communications Commission announces the release of revised FCC Forms 486 and 479 and the associated instructions for the schools and libraries universal service support mechanism. These revised forms adopt changes in the certifications that libraries must make to indicate compliance with the Children's Internet Protection Act (CIPA) (Public Law 106-554). The changes are adopted in response to the recent decision of the United States District Court for the Eastern District of Pennsylvania, which held that the CIPA requirements incorporated at 47 U.S.C. 254(h)(6) were facially unconstitutional as to libraries. See American Library Ass'n, Inc. v. U.S., 201 F. Supp. 2d 401 (E.D. Pa. 2002).

SLD will continue to accept the previous versions of the FCC Forms 486 and 479. Those libraries that choose to submit FCC Forms 486 or 479 using the previous versions and that are required to certify to compliance with those CIPA certifications established by 47 U.S.C. 254(l) should check Item 11a, certifying compliance with CIPA “as codified at 47 U.S.C. 254(h) and (l).” Libraries checking Item 11a are certifying that they have complied to the extent that these sections apply, as of the date of the start of discounted services for the relevant funding year. Pursuant to the decision of the United States District Court for the Eastern District of Pennsylvania, section 254(h)(6) no longer applies to libraries, and libraries may truthfully check Item 11a to certify compliance only with section 254(l). Library applicants checking this box are certifying that they have an Internet safety policy as described above, and have satisfied the public notice and hearing/meeting requirement, but are not certifying as to a technology protection measure because they are not required to filter Internet access. The same is true for the other CIPA certifications on FCC Forms 486 and 479. Additional guidance on the use of the old forms can be obtained on SLD's Web site at http://www.sl.universalservice.org/reference/CIPAGuidance.asp.

Although SLD will continue to accept the previous versions of the FCC Forms 486 and 479, all applicants are strongly encouraged to make use of the new forms. Unlike the prior versions, the new forms can be scanned by SLD. Use of the new forms will expedite processing and receipt of discounts. The new forms and instructions may be obtained at the SLD Web site, http://www.sl.universalservice.org, or by contacting the SLD Client Service Bureau at (888) 203-8100.

Federal Communications Commission.
Mark G. Seifert,
Deputy Division Chief, Telecommunications Access Policy Division.

[FR Doc. 02-25072 Filed 10-1-02; 8:45 am]

BILLING CODE 6712-01-M